DEPARTMENT OF HEALTH AND HUMAN SERVICES

Centers for Disease Control and Prevention

42 CFR Part 73

RIN 0920-AA08

Possession, Use, and Transfer of Select Agents and Toxins; Notice of Public Meeting

AGENCY: Centers for Disease Control and Prevention, Department of Health and Human Services.

ACTION: Notice of public meeting.

SUMMARY: The Centers for Disease Control and Prevention (CDC) announces a public meeting on Possession, Use and Transfer of Select Agents and Toxins.

DATES: December 16, 2002, 9 a.m.—12 p.m. and 1:30 p.m.—4 p.m.

ADDRESSES: The meeting will be held at the Wilbur J. Cohen Building/Voice of America Building in the Cohen Auditorium. While open to the public, seating capacity may be limited.

The Wilbur J. Cohen Building/Voice of America Building is located at 330 Independence Avenue SW, Washington, DC, 20201. No parking is available at the Cohen Building. The nearest Metro stop is Federal Center SW.

FOR FURTHER INFORMATION CONTACT: Minh Thomas, Select Agent Program, Centers for Disease Control and Prevention, 1600 Clifton Road, MS E-79, Atlanta, Georgia 30333, phone (404) 498-2259.

SUPPLEMENTARY INFORMATION: Notice is hereby given of a public meeting to obtain comment on 42 CFR Part 73, Interim Final Rule for Select Agents. On June 12, 2002, the President signed Public Law 107-188, Public Health Safety and Bioterrorism Preparedness and Response Act of 2002. The Act specifies that both the Department of Health and Human Services and the Department of Agriculture will issue their Interim Final Rule implementing the Act on or before 180 days of enactment. DHHS will issue its Interim Final Rule on or about December 9, 2002, and USDA will issue its Interim Final Rule on or about December 9, 2002. These rules will describe implementation of the Act.

Matters to be Considered: The meeting will begin with an overview of the DHHS Interim Final Rule, followed by an overview of the USDA Interim Final Rule. The Department of Justice has also been invited to provide an overview of the personnel requirements specified by the Act. A public comment period will follow the presentations. Each individual or group making public comment will be limited to a total time of 2 minutes.

Special Accommodations: These meetings are physically accessible to people with disabilities. Requests for special accommodations may be directed to Tony Johnson, National Center for Infectious Diseases, Centers for Disease Control and Prevention, 1600 Clifton Road, MS C-19, Atlanta, Georgia 30333, phone (404) 639-0100.

Procedure: Any member of the public who wishes to submit oral or written comments at the meeting should contact Angie Frey, Select Agent Program, Centers for Disease Control and Prevention at (404) 498-2272 on or before December 12, 2002. Written comments received by CDC on or before December 12, 2002 will be provided at the meeting. Submit written comments to Select Agent Program, ATTN: Comment for Public Meeting, Centers for Disease Control and Prevention, 1600 Clifton Road, MS E-79, Atlanta, Georgia 30333. Each individual or group wishing to make oral comment will be limited to a total of 2 minutes. Persons attending this meeting are advised that the agency is not responsible for providing access to electrical outlets.

The Director, Management Analysis and Services Office, has been delegated the authority to sign Federal Register notices pertaining to announcements of meetings and other committee management activities for both the Centers for Disease Control and Prevention and the Agency for Toxic Substances and Disease Registry.

Dated: November 24, 2002.
Alvin Hall,
Director, Management Analysis and Services Office, Centers for Disease Control and Prevention.

[FR Doc. 02-30381 Filed 11-29-02; 8:45 am]

BILLING CODE 4163-18-P